ARCHITECTURAL AND TRANSPORTATION BARRIERS COMPLIANCE BOARD

Meetings: Access Board

AGENCY: Architectural and Transportation Barriers Compliance Board.

ACTION: Notice of meeting.

SUMMARY: The Architectural and Transportation Barriers Compliance Board (Access Board) has scheduled its regular business meetings to take place in Washington, DC from Monday through Wednesday, May 9-11, 2005, at the times and location noted below.

DATES: The schedule of events is as follows:

Monday, May 9, 2005

10:30 a.m.-Noon, Technical Programs Committee.

1:30-3 p.m., Ad Hoc Committee on Board Election Process.

3-4, Briefing on Outdoor Developed Areas Rulemaking.

4-5, Demonstration of the Board's New Web site.

Tuesday, May 10, 2005

9 a.m.-5 p.m., Ad Hoc Committee on Public Rights-of-Way (Closed Session).

Wednesday, March 10, 2005

9-10 a.m., Planning and Budget Committee.

10-Noon, Executive Committee.

1:30-3 p.m., Board Meeting.

ADDRESSES: The meetings will be held at the Westin Embassy Row Hotel, 2100 Massachusetts Avenue, NW., Washington, DC 20008.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the March 9, 2005 Board Meeting Minutes.

• Ad Hoc Committee on Board Election Process Report.

• Ad Hoc Committee on Public Rights-of-Way Report.

• Technical Programs Committee Report.

• Planning and Budget Committee Report.

• Executive Committee Report.

All meetings are accessible to persons with disabilities. An assistive listening system will be available at the Board meetings. Members of the general public who require sign language interpreters must contact the Access Board by April 29, 2005. Persons attending Board meetings are requested to refrain from using perfume, cologne, and other fragrances for the comfort of other participants.

Lawrence W. Roffee,
Executive Director.

[FR Doc. 05-7767 Filed 4-18-05; 8:45 am]

BILLING CODE 8150-01-P